DEPARTMENT OF COMMERCE

International Trade Administration

Notice of Scope Rulings

AGENCY: Import Administration, International Trade Administration, Department of Commerce.

ACTION: Notice.

SUMMARY: The Department of Commerce (“Department”) hereby publishes a list of scope rulings and anticircumvention determinations made between April 1, 2013, and June 30, 2013. We intend to publish future lists after the close of the next calendar quarter.

DATES: September 27, 2013.

FOR FURTHER INFORMATION CONTACT: Brenda E. Waters, AD/CVD Operations, Customs Liaison Unit, Import Administration, International Trade Administration, U.S. Department of Commerce, 14th Street and Constitution Avenue NW., Washington, DC 20230; telephone: 202-482-4735.

SUPPLEMENTARY INFORMATION:

Background

The Department's regulations provide that the Secretary will publish in the Federal Register a list of scope rulings on a quarterly basis.¹ Our most recent notification of scope rulings was published on July 18, 2013.² This current notice covers all scope rulings and anticircumvention determinations made by Import Administration between April 1, 2013, and June 30, 2013, inclusive. As described below, subsequent lists will follow after the close of each calendar quarter.

¹ See 19 CFR 351.225(o).

² See Notice of Scope Rulings, 78 FR 42934 (July 18, 2013).

Scope Rulings Made Between April 1, 2013, and June 30, 2013

India

A-533-502: Certain Welded Carbon Steel Standard Pipes and Tubes From India

Requestor: Salem Steel NA, LLC; Certain electric resistance welded (ERW) mechanical tubing and ERW hydraulic tubing, cold drawn and/or drawn over mandrel (CD/DOM), regardless of size, are not within the scope of the antidumping duty order; June 7, 2013 (final).

Italy

A-475-703: Granular Polytetrafluoroethylene Resin From Italy

Requestor: Industrial Plastics and Machine, Inc.; Certain polytetrafluoroethylene (PTFE) resin products made from raw, unfilled PTFE powder from Russia and the People's Republic of China and imported by Industrial Plastics and Machine, Inc. from Guarniflon S.p.A. are not covered by the antidumping duty order; April 26, 2013 (preliminary).

People's Republic of China

A-570-967 and C-570-968: Aluminum Extrusions From the People's Republic of China

Requestor: 5 Diamond Promotions, Inc.; Its aluminum flag pole sets are within the scope of the antidumping and countervailing duty orders because they do not enter the United States with all parts necessary to complete a final finished flag pole packaged together as a complete set; April 19, 2013.

A-570-941: Certain Kitchen Appliance Shelving and Racks From the People's Republic of China

Requestor: U-Line Corporation; steel shelving units used in wine coolers, beverage coolers and ADA-compliant cooling units are within the scope of the antidumping duty order; April 22, 2013.

A-570-943 and C-570-944: Certain Oil Country Tubular Goods From the People's Republic of China

Requestor: United States Steel Corporation, TMK IPSCO, Wheatland Tube Company, Boomerang Tube LLC, and V&M Star L.P.; certain unfinished oil country tubular goods (including green tubes) produced in the People's Republic of China, regardless of where the finishing of the oil country tubular goods (made to certain grades and specifications) takes place, are within the scope of the antidumping and countervailing duty orders; May 31, 2013 (preliminary).

A-570-891: Hand Trucks and Certain Parts Thereof From the People's Republic of China

Requestor: ACE Hardware Corporation; The ACE Trading Luggage Cart is outside the scope of the antidumping duty order because it does not possess a projecting edge or toe plate that slides under a load for purposes of lifting and/or moving the load; June 14, 2013.

A-570-970 and C-570-971: Multilayered Wood Flooring From the People's Republic of China

Requestor: M-Wave International, LLC; M-Wave's product is outside the scope of the orders because the PVC film is a laminated plastic face layer that obscures the wood grain and texture, as opposed to a wood veneer face layer; June 24, 2013.

A-570-970 and C-570-971: Multilayered Wood Flooring From the People's Republic of China

Requestor: Real Wood Floors, LLC; Engineered multi-layered wood flooring converted in the People's Republic of China from rough lumber owned by Real Wood Floors is within the scope of the antidumping and countervailing duty orders; June 20, 2013 (preliminary).

A-570-875: Non-Malleable Cast Iron Pipe Fittings From the People's Republic of China

Requestor: R.W. Beckett Corporation; All of Beckett's pipe fittings except for those that are not made of cast iron (i.e., three pipe fittings that are made of either aluminum or zinc alloy) are within the scope of the order because they are pipe fittings made of cast iron and, therefore, fit the physical description of the subject merchandise covered by the scope; May 14, 2013.

A-570-504: Petroleum Wax Candles From the People's Republic of China

Requestor: Rite-Lite Ltd.; Chanukah candles are within the scope of the antidumping duty order; April 30, 2013.

A-570-890: Wooden Bedroom Furniture From the People's Republic of China

Requestor: Badger Basket Company; Badger Basket Company's infant changing table with one hamper and three baskets is outside the scope of the order because it is sufficiently distinguishable from dressers and other wooden bedroom furniture that is covered by the order; April 2, 2013.

Russian Federation

A-821-811: Solid Fertilizer Grade Ammonium Nitrate From the Russian Federation

Requestor: KCKK Mineral Fertilizer Plant, OJSC, part of the Uralchem, OJSC group of companies; a fertilizer product identified as NS 30:7 is covered by the antidumping duty order on solid fertilizer grade ammonium nitrate from the Russian Federation; May 17, 2013 (preliminary).

Anti-Circumvention Ruling Made Between April 1, 2013, and June 30, 2013

People's Republic of China

A-570-894: Certain Tissue Paper Products From the People's Republic of China:

Requestor: Seaman Paper Company of Massachusetts, Inc.; exports to the United States of certain tissue paper products produced in India by A.R. Printing & Packaging (India) Pvt. Ltd. from PRC-origin jumbo rolls and/or cut sheets of tissue paper are circumventing the antidumping duty order; June 27, 2013 (final).

Interested parties are invited to comment on the completeness of this list of completed scope and anticircumvention inquiries. Any comments should be submitted to the Deputy Assistant Secretary for AD/CVD Operations, Import Administration, International Trade Administration, 14th Street and Constitution Avenue NW., APO/Dockets Unit, Room 1870, Washington, DC 20230.

This notice is published in accordance with 19 CFR 351.225(o).

Dated: September 20, 2013.
Christian Marsh,
Deputy Assistant Secretary for Antidumping and Countervailing Duty Operations.

[FR Doc. 2013-23648 Filed 9-26-13; 8:45 am]

BILLING CODE 3510-DS-P